Title 3—

The President

Proclamation 7988 of March 10, 2006

National Poison Prevention Week, 2006

By the President of the United States of America

A Proclamation

National Poison Prevention Week helps raise awareness about the dangers of poison exposure. Our Nation has made great progress in reducing the number of poison-related deaths and injuries since the first National Poison Prevention Week in 1962, yet poisonings remain a threat to the health and safety of many Americans.

Approximately 1 million of our Nation's children under the age of 5 are exposed to poisonous substances each year. Most of these instances are preventable and result from the ingestion of household products. The Consumer Product Safety Commission requires child-resistant packaging for many medicines and household chemicals, and it is important for parents and adults to remember to act responsibly by storing these substances out of the reach of children.

The most common cause of death due to accidental poisoning results from exposure to carbon monoxide, an odorless, colorless gas that is produced by products such as grills, gas stoves, water heaters, and automobiles. Every year, more than 500 Americans die from carbon monoxide poisoning, usually during winter months. Knowledge is the key to preventing this kind of poisoning. Placing a carbon monoxide alarm on each level of a home, and especially near bedrooms, is a good way to monitor air quality and remain alert to potentially high levels of carbon monoxide.

Information about poison exposure and how homes can be made safer is available at the Centers for Disease Control and Prevention website, www.cdc.gov/health/poisoning.html, and the Poison Prevention Week Council website, www.poisonprevention.org. In case of emergency, families can contact their nearest Poison Control Center, 24 hours a day, 7 days a week, by calling 1-800-222-1222. By working together and taking the appropriate precautions, we can help to prevent deaths and injuries caused by accidental poisonings.

To encourage Americans to learn more about the dangers of accidental poisonings and to take appropriate preventive measures, the Congress, by joint resolution approved September 26, 1961, as amended (75 Stat. 681), has requested the President to issue a proclamation designating the third week of March each year as “National Poison Prevention Week.”

NOW, THEREFORE, I, GEORGE W. BUSH, President of the United States of America, do hereby proclaim March 19 through March 25, 2006, as National Poison Prevention Week. I call upon all Americans to observe this week by participating in appropriate activities and by learning how to prevent poisonings, especially among children.

IN WITNESS WHEREOF, I have hereunto set my hand this tenth day of March, in the year of our Lord two thousand six, and of the Independence of the United States of America the two hundred and thirtieth.

B

[FR Doc. 06-2563

Filed 3-14-06; 8:45 am]

Billing code 3195-01-P